DEPARTMENT OF TRANSPORTATION

Office of the Secretary

Privacy Act of 1974: System of Records

AGENCY: Federal Motor Carrier Safety Administration (FMCSA).

ACTION: Notice to modify a system of records.

SUMMARY: DOT proposes to modify an existing system of records under the Privacy Act of 1974.

EFFECTIVE DATE: December 20, 2004. If no comments are received, the proposal will become effective on the above date. If comments are received, the comments will be considered and, where adopted, the documents will be republished with changes.

ADDRESSES: Address all comments concerning this notice to Yvonne L. Coates, Department of Transportation, Office of the Secretary, 400 7th Street, SW., Washington, DC 20590, (202) 366-6964 (telephone), (202) 366-7024 (fax) Yvonne.Coates@ost.dot.gov (Internet address).

FOR FURTHER INFORMATION CONTACT: Theresa Rowlett, (202) 385-2316.

SUPPLEMENTARY INFORMATION: The Department of Transportation system of records notices subject to the Privacy Act of 1974 (5 U.S.C. 552a), as amended, have been published in the Federal Register and are available from the above mentioned address.

System number:

DOT/FMCSA 03.

System name:

Driver waiver/exemption file.

Security classification:

Unclassified, Sensitive.

System location:

Department of Transportation, Federal Motor Carrier Safety Administration (FMCSA), Office of Bus and Truck Standards and Operations, 400 7th Street, SW., Washington, DC 20590; FMCSA Service Centers.

Categories of individuals covered by the system of records:

Operators of interstate commercial motor vehicles who transport certain commodities and have been granted waivers/exemptions from normally-applicable safety requirements.

Categories of records in the system:

Applications for waiver, exemptions, final disposition of request for waiver/exemptions; and exemption renewal.

Authority for maintenance of the system:

Motor Carrier Safety Act of 1984 (49 U.S.C. 31136(e) and TEA-21 (49 U.S.C. 31315).

Purposes:

Monitor drivers of commercial motor vehicles who operate in interstate commerce and have requested waivers to existing Federal Motor Carrier Safety Regulations (FMCSRs).

The purpose of the information in these records is to make determinations concerning whether drivers who request exemptions from the medical standards in the FMCSRs should be permitted to operate a CMV in interstate commerce. The determination is based on drivers' medical records describing the impairment for which they are requesting an exemption, the ability to manage the impairment, and the demonstrated ability to operate a CMV in a safe manner with the impairment. This information, with augmentation and updating, is also used every two years to determine if the exemption should be renewed as is specified in TEA-21 (49 U.S.C. 31315). The use of the information in the various determinations is focused on insuring that the program is as safe or safer than the circumstance present in the absence of the program as is required in TEA-21 (49 U.S.C. 31315).

Routine uses of records maintained in the system, including categories of users and the purposes of such uses:

The records are used to monitor the drivers' performance throughout the period they have an exemption and are active in the program. Monitoring could be related to the drivers' medical condition or their driving performance. The records are also used to respond to Congressional inquiries about individuals in the program. Those authorized to use the information are the managers at FMCSA and the members of the contracting project team that supports the program.

See Prefatory Statement of General Routine Uses.

Disclosure to consumer reporting agencies:

None.

Policies and practices for storing, retrieving, accessing, retaining, and disposing of records in the system:

Storage:

The records are currently stored in two locations. The physical records are stored at a secure site located at the contracting company which supports the exemption program. The records are also stored in an electronic format on a secure web-based information system. The information system is protected through the use of HTTPS and SSL (Secure Socket Links). All users of the system are required to obtain a client certificate which identifies the user to the web site. The company that supports the program has set up a certificate server, from which authorized users can request a client certificate. All client certificate requests are reviewed by company's Information Systems Manager, who is responsible for providing access to the site. The Information System Manager works with the Project Manager and the FMCSA Project Officer to determine the user access to the site. Once a user is approved, the Information System Manager notifies the user via e-mail that their client certificate has been approved, and provides them with instructions on how to download and install the client certificate on the user's personal computer. Currently, only the project staff and selected FMCSA Managers have access to the site.

Retrievability:

Records are retrieved by driver's name.

Safeguards:

Files are classified as sensitive and are regularly accessible only by designated employees within the FMCSA Service Centers and FMCSA headquarters.

Retention and disposal:

The files are retained while the driver waivers are active. The inactive driver waiver files are purged every three years.

System Manager(s) and address:

Federal Motor Carrier Safety Administration, Office of Bus and Truck Standards and Operations, 400 7th Street, SW., Washington, DC 20590.

Notification procedure:

Same as “System Manager.”

Record access procedures:

Same as “System Manager.”

Contesting record procedures:

Same as “System Manager.”

Record source categories:

Application for Waiver or Waiver Renewal.

Exemptions claimed for the system:

None.

Yvonne L. Coates,
Departmental Privacy Officer.

[FR Doc. 04-24969 Filed 11-8-04; 8:45 am]

BILLING CODE 4910-62-P